DEPARTMENT OF TRANSPORTATION

Federal Aviation Administration

14 CFR Part 39

[Docket No. FAA-2007-0056; Directorate Identifier 2007-SW-06-AD]

RIN 2120-AA64

Airworthiness Directives; Eurocopter France Model EC130 B4 Helicopters

AGENCY: Federal Aviation Administration (FAA), DOT.

ACTION: Notice of proposed rulemaking (NPRM).

SUMMARY: We propose to adopt a new airworthiness directive (AD) for Eurocopter France Model EC130B4 helicopters. This proposed AD results from mandatory continuing airworthiness information (MCAI) originated by an aviation authority of another country to identify and correct an unsafe condition on an aviation product. The aviation authority of France, with which we have a bilateral agreement, states in the MCAI:

This Airworthiness Directive (AD) is issued following the discovery of several cases of loosened rivets in the tube-to-flange attachment of the tail rotor drive center section shaft.

In one case, this loosening of rivets was associated with a crack in the tube which started from a loosened-rivet hole.

These occurrences can lead to failure of the tail rotor drive center section shaft.

The proposed AD would require actions that are intended to address the unsafe condition caused by cracks and loosened rivets in the tube-to-flange attachment of the tail rotor and the unsafe condition caused by the out-of-perpendicularity of the No. 1 bearing.

DATES: We must receive comments on this proposed AD by November 19, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-0056; Directorate Identifier 2007-SW-06-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued an MCAI in the form of EASA Airworthiness Directive No. F-2005-190, dated November 23, 2005 (referred to after this as “the MCAI”), to correct an unsafe condition for this French-certificated product. The MCAI states:

This Airworthiness Directive (AD) is issued following the discovery of several cases of loosened rivets in the tube-to-flange attachment of the tail rotor drive center section shaft.

In one case, this loosening of rivets was associated with a crack in the tube which started from a loosened-rivet hole.

These occurrences can lead to failure of the tail rotor drive center section shaft.

You may obtain further information by examining the MCAI and service information in the AD docket.

Relevant Service Information

Eurocopter has issued Alert Service Bulletin No. 65A002, dated November 16, 2005. The actions described in the MCAI are intended to correct the same unsafe condition as that identified in the service information.

FAA's Determination and Proposed Requirements

This product has been approved by the aviation authority of France, and is approved for operation in the United States. Pursuant to our bilateral agreement with this State of Design Authority, we have been notified of the unsafe condition described in the MCAI and the service information. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in the “FAA Differences” section in the proposed AD.

Costs of Compliance

We estimate that this proposed AD would affect 68 helicopters of U.S. registry and that it would take about 1 work-hour per helicopter to determine if there are any cracks or loosened rivets in the tube-to-flange attachment of the tail rotor drive center section shaft and to determine if the No. 1 bearing is out-of-perpendicularity. Also, we estimate that it would take about 4 work-hours per helicopter to remove and replace any nonconforming parts. The average labor rate is $80 per work-hour. Required parts would cost about $15,007 per helicopter if replacing a tail rotor drive center section shaft is necessary. Based on these figures, we estimate the cost to inspect the fleet of helicopters to be $5,440. Assuming 3 helicopters are found to have nonconforming parts, we estimate the costs to replace these parts to be $45,981, resulting in the total cost of the proposed AD on U.S. operators to be $51,421.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2007-0056; Directorate Identifier 2007-SW-06-AD.

Comments Due Date

(a) We must receive comments by November 19, 2007.

Other Affected ADs

(b) None.

Applicability

(c) This AD applies to Model EC130 B4 helicopters, with a tail rotor drive center section shaft, part number (P/N) 350A340202; and bearing, P/N 593404, certificated in any category.

Reason

(d) The mandatory continuing airworthiness information (MCAI) states:

This Airworthiness Directive (AD) is issued following the discovery of several cases of loosened rivets in the tube-to-flange attachment of the tail rotor drive center section shaft.

In one case, this loosening of rivets was associated with a crack in the tube which started from a loosened-rivet hole.

These occurrences can lead to failure of the tail rotor drive center section shaft.

Actions and Compliance

(e) Within 50 hours time-in-service (TIS) or 3 months, whichever occurs first, unless already done, do the following actions.

(1) Inspect for cracks or loosened rivets in the tube-to-flange attachment of the tail rotor drive center section shaft and inspect the perpendicularity of bearing No. 1 in compliance with the Accomplishment Instructions, paragraph 2.B.2., of Eurocopter Alert Service Bulletin No. 65A002, dated November 16, 2005 (ASB).

(2) If a crack or loosened rivet is found, replace the tail rotor drive center section shaft before further flight.

(3) If the out-of perpendicularity of the bearing is more than 0.1 mm, apply the corrective procedure described in the Accomplishment Instructions, paragraph 2.B.2., of the ASB.

Differences Between the FAA AD and the MCAI

(f) None.

Subject

(g) Air Transport Association of America (ATA) Code 65, Tail rotor drive—tail rotor drive shaft.

Other Information

(h) The following provisions also apply to this AD:

(1) Alternative Methods of Compliance (AMOCs): The Manager, Safety Management Group, Rotorcraft Directorate, FAA, has the authority to approve AMOCs for this AD, if requested using the procedures found in 14 CFR 39.19. Send information to ATTN: Ed Cuevas, Aviation Safety Engineer, Fort Worth, Texas 76193-0111, telephone (817) 222-5355, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI European Aviation Safety Agency (EASA) Airworthiness Directive No. F-2005-190, Revision A, dated November 23, 2005, and Eurocopter Alert Service Bulletin No. 65A002, dated November 16, 2005, contain related information.

Issued in Fort Worth, Texas, on October 11, 2007.
David A. Downey,
Manager, Rotorcraft Directorate, Aircraft Certification Service.

[FR Doc. E7-20684 Filed 10-18-07; 8:45 am]

BILLING CODE 4910-13-P